DEPARTMENT OF TRANSPORTATION

Federal Aviation Administration

Aviation Security Advisory Committee; Meeting

Summary: Notice is hereby given of a meeting of the Aviation Security Advisory Committee.

Dates: The meeting will be held June 21, 2001, from 10 a.m. to 1 p.m.

Addresses: The meeting will be held at the Federal Aviation Administration, 800 Independence Avenue, SW., 10th floor, MacCracken Room, Washington, DC 20591, telephone 202-267-7622.

Supplementary Information: Pursuant to section 10(a)(2) of the Federal Advisory Committee Act (Pub. L. 92-463; 5 U.S.C. App. 11), notice is hereby given of a meeting of the Aviation Security Advisory Committee to be held June 21, 2001, at the Federal Aviation Administration, 800 Independence Avenue, SW., 10th floor, MacCracken Room, Washington, DC. The agenda for the meeting will include: Review of Rulemaking Activities, Update on the Status of the Verification Card Program Pilot, RTCA Committee on Access Control Standards and the FAA/ACC Airport Terminal Workshop Series, Weapons of Mass Destruction/Bio-Chemical, A Common Strategy, and Aviation Security Contingency Plan Working Group. The meeting is open to the public but attendance is limited to space available. Members of the public may address the committee only with the written permission of the chair, which should be arranged in advance. The chair may entertain public comment if, in its judgment, doing so will not disrupt the orderly progress of the meeting and will not be unfair to any other person. Members of the public are welcome to present written material to the committee at any time. Persons wishing to present statements or obtain information should contact the Office of the Associate Administrator for Civil Aviation Security, 800 Independence Avenue, SW., Washington, DC 20591, telephone 202-267-7622.

Issued in Washington, D.C., on June 6, 2001.
Lynne A. Osmus,
Deputy Associate Administrator for Civil Aviation Security.

[FR Doc. 01-14660 Filed 6-8-01; 8:45 am]

BILLING CODE 4910-13-M